DEPARTMENT OF COMMERCE

Census Bureau

Proposed Information Collection; Comment Request; Census Coverage Measurement Person Interview and Reinterview Operations

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration written comments must be submitted on or before August 24, 2007.

ADDRESSES: Direct all comments to Diana Hynek, Departmental Paperwork Clearance Officer, Department of Commerce, Room 6625, 14th and Constitution Avenue, NW., Washington, DC 20230 (or via the internet at dHynek@doc.gov).

FOR FURTHER INFORMATION CONTACT: Requests for additional information or copies of the information collection instrument(s) and instructions should be directed to Magdalena Ramos, U.S. Census Bureau, 4600 Silver Hill Rd., Room 4H265, Washington, DC 20233, 301-763-4295 (or via the Internet at Magdalena.Ramos@census.gov).

SUPPLEMENTARY INFORMATION:

I. Abstract

In preparation for the 2010 Census, the U.S. Census Bureau will conduct Census Coverage Measurement (CCM) activities, part of the 2008 Census Dress Rehearsal. The 2008 Census Dress Rehearsal will be conducted in two sites, one urban, and the other one, a mix of urban and suburban. San Joaquin County, California is the urban site. South Central North Carolina has been selected as the urban/suburban mix site. The North Carolina site consists of Fayetteville and nine counties surrounding Fayetteville (Chatham, Cumberland, Harnett, Hoke, Lee, Montgomery, Moore, Richmond, and Scotland). As is typical, the CCM operations and activities will be conducted separate from and independent of the census operations. The CCM program for the dress rehearsal is designed to ensure that all planned coverage measurement operations are working as expected, that they are integrated internally, and that they are coordinated with the appropriate census operations. This is particularly important because the dress rehearsal is the first time in the 2010 census cycle that CCM operations for housing units will be conducted. The CCM operations planned for the dress rehearsal, to the extent possible, will mirror those that will be conducted for the 2010 Census to provide estimates of net coverage error and coverage error components (omissions and erroneous enumerations) for housing units and persons in housing units (see Definition of Terms). The data collection and matching methodologies for previous coverage measurement programs were designed only to measure net coverage error, which reflects the difference between omissions and erroneous inclusions.

The 2008 CCM survey sample is a multi-phase probability sample of housing units comprising a number of distinct processes from forming block clusters for the two sites, selecting sample block clusters where the CCM survey will be conducted, to eventually selecting addresses for interviewing. Two samples will be selected to measure census coverage of housing units and the household population: The population sample (P sample) and the enumeration sample (E sample). The P sample is a sample of housing units and persons obtained independently from the census for a sample of block clusters, while the E sample is a sample of census housing units and enumerations in the same block cluster as the P sample.

The independent roster of housing units is obtained during the CCM Independent Listing Operation, the results of which will be matched to census housing units in the sample block clusters and surrounding blocks. After the CCM Independent Listing and matching operations have taken place, some cases with discrepancies between the CCM Independent Listing and the Census will be identified to receive the CCM Housing Unit Followup interview. The results of this interview will again be matched to the list of census housing units. The results of the housing unit matching operations will be used to determine which CCM and Census addresses will be eligible to go to the CCM Person Interview (PI) Operation. After data collected from the CCM PI is matched to data collected by the Census, some cases with discrepancies between the CCM PI and the Census will be sent for another CCM interview called the CCM Person Followup operation. A separate Federal Register Notice has already been issued for the CCM Independent Listing and CCM Housing Unit Followup operations. A Federal Register Notice will be issued for the CCM Person Followup Operation.

For each sample block cluster, we will conduct a CCM PI for selected housing units. During CCM PI, interviewers will use a computer-assisted data collection instrument on a hand held computer to obtain information about the current residents of the sample housing unit including those who may have moved into the selected housing unit since Census Day (April 1, 2008), and certain persons who moved out of the sample housing unit between Census Day and the time of the CCM interview. We will include nonmatched Census addresses in the CCM PI so we can ascertain their census enumeration status earlier than if they were included in the Person Followup operation conducted later in the CCM processing.

The CCM PI operation will collect the information listed below only for persons in housing units. We are not studying coverage measurement for other types of living quarters (for example, group quarters) in the 2008 CCM Dress Rehearsal. The automated CCM PI instrument will collect the following information for selected housing units:

1. Roster of people living at the housing unit at the time of the CCM PI Interview.

2. Census Day (April 1, 2008) address information for people who moved into the sample address since Census Day.

3. Other addresses where a person may have been counted on Census Day.

4. Information to determine where each person should be counted on Census Day (relative to our residence rules). For example, interviewers will probe for persons who might have been left off the household roster; ask additional questions about persons who moved from another address on Census Day to the sample address; collect additional information for persons with multiple addresses.

5. Demographic information for each person in the household on Interview Day or Census Day, including name, date of birth, age, sex, Hispanic Origin, race, and relationship.

6. Name and above information for any person who has moved out of the sample address since Census Day (if known).

The CCM PI Reinterview is a quality control operation that will be conducted on 10 percent of the PI cases. The purpose of the operation is to confirm that the CCM PI interviewer conducted a CCM PI interview with a household member or a proxy respondent and to conduct the complete CCM PI interview as needed if the original interview seems questionable.

II. Method of Collection

The CCM PI and Reinterview operations will be conducted using a computer-assisted data collection instrument on a hand-held computer. The CCM PI will be conducted through personal interviews while the CCM PI Reinterview interviews will be conducted by telephone and personal interviews.

The CCM PI and PI Reinterview operations will occur starting August 22, 2008 through October 10, 2008.

Definition of Terms

Components of Coverage Error—The two components of census coverage error are census omissions (missed persons or housing units) and erroneous inclusions (persons or housing units enumerated in the census that should not have been). Examples of erroneous inclusions are: housing units built after Census Day and persons or housing units enumerated more than once (duplicates).

Net Coverage Error—Reflects the difference between census omissions and erroneous inclusions. A positive net error indicates an undercount, while a negative net error indicates an over-count.

For more information about the 2008 Census Dress Rehearsal please visit the following page of the Census Bureau's Web site: http://www.census.gov/2010census/2008_dress_rehearsal/.

III. Data

OMB Number: None.

Form Number: None.

Type of Review: Regular submission.

Affected Public: Individuals or households.

Estimated Number of Respondents: 14,375 addresses for PI and 1,438 addresses for PI Reinterview.

Estimated Times per Response: 10 minutes.

Estimated Total Annual Burden Hours: 2,636.

Estimated Total Annual Cost to the Public: $0.

Respondent Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: June 18, 2007.
Gwellnar Banks,
Management Analyst, Office of the Chief Information Officer.

[FR Doc. E7-12208 Filed 6-22-07; 8:45 am]

BILLING CODE 3510-07-P